DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for seven of its 13 national marine sanctuary advisory councils (advisory councils). Vacant seats, including positions (i.e., primary member and alternate), for each of the advisory councils are listed in this notice under Supplementary Information. Applicants are chosen based upon their particular expertise and experience in relation to the seat for which they are applying; community and professional affiliations; views regarding the protection and management of marine or Great Lake resources; and possibly the length of residence in the area affected by the sanctuary. Applicants who are chosen as members or alternates should expect to serve two- or three year terms, pursuant to the charter of the specific national marine sanctuary advisory council.

DATES: Applications are due by September 30, 2015.

ADDRESSES: Application kits are specific to each advisory council. As such, application kits must be obtained from and returned to the council-specific addresses noted below.

• Channel Islands National Marine Sanctuary Advisory Council: Michael Murray, Channel Islands National Marine Sanctuary, University of California Santa Barbara, Ocean Science Education Building 514, MC 6155, Santa Barbara, CA 93106-6155; (805) 893-6418; email Michael.Murray@noaa.gov; or download application from http://channelislands.noaa.gov/sac/council_news.html.

• Cordell Bank National Marine Sanctuary Advisory Council: Lilli Ferguson, Cordell Bank National Marine Sanctuary, P.O. Box 159, Olema, CA 94950; (415) 464-5265; email Lilli.Ferguson@noaa.gov; or download application from http://cordellbank.noaa.gov.

• Florida Keys National Marine Sanctuary Advisory Council: Beth Dieveney, Florida Keys National Marine Sanctuary, 33 East Quay Rd., Key West, FL 33040; (305) 809-4700 extension 228; email Beth.Dieveney@noaa.gov; or download application from http://floridakeys.noaa.gov/sac/welcome.html?s=sac.

• Gray's Reef National Marine Sanctuary Advisory Council: Becky Shortland, Gray's Reef National Marine Sanctuary, 10 Ocean Science Circle, Savannah, GA 31411; (912) 598-2381; email Becky.Shortland@noaa.gov; or download application from http://graysreef.noaa.gov/management/sac/council_news.html.

• Monitor National Marine Sanctuary Advisory Council: Katherine Van Dam, Monitor National Marine Sanctuary, 100 Museum Drive, Newport News, VA 23606; (757) 591-7350; email Katherine.VanDam@noaa.gov; or download application from http://monitor.noaa.gov/advisory/news.html.

• Monterey Bay National Marine Sanctuary Advisory Council: Erin Ovalle, Monterey Bay National Marine Sanctuary, 99 Pacific St., Building 455A, Monterey, CA; (831) 647-4206; email Erin.Ovalle@noaa.gov; or download application from http://montereybay.noaa.gov/welcome.html.

• Stellwagen Bank National Marine Sanctuary Advisory Council: Nathalie Ward, Stellwagen Bank National Marine Sanctuary, 175 Edward Foster Road, Scituate, MA 02066; (781) 545-8026 extension 206; email Nathalie.Ward@noaa.gov; or download application from http://stellwagen.noaa.gov.

FOR FURTHER INFORMATION CONTACT: For further information on a particular national marine sanctuary advisory council, please contact the individual identified in the Addresses section of this notice.

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries on issues including management, science, service, and stewardship; and to serve as liaisons between their constituents in the community and the sanctuary. Additional information on ONMS and its advisory councils can be found at http://sanctuaries.noaa.gov. Information related to the purpose, policies and operational requirements for advisory councils can be found in the charter for a particular advisory council (http://sanctuaries.noaa.gov/management/ac/council_charters.html) and the National Marine Sanctuary Advisory Council Implementation Handbook (http://www.sanctuaries.noaa.gov/management/ac/acref.html).

The following is a list of the vacant seats, including positions (i.e., primary member or alternate), for each of the advisory councils currently seeking applications for members and alternates:

Channel Islands National Marine Sanctuary Advisory Council: Public At-large (alternate).

Cordell Bank National Marine Sanctuary Advisory Council: Community-At-Large—Sonoma County (primary member); Community-A-Large—Sonoma County (alternate); Conservation (primary member); Conservation (alternate); Maritime Activities (primary member); and Maritime Activities (alternate).

Florida Keys National Marine Sanctuary Advisory Council: Conservation and Environment (primary member); Education and Outreach (primary member); Education and Outreach (alternate); Fishing—Commercial—Shell/Scale (primary member); Fishing—Commercial—Shell/Scale (alternate); Submerged and Cultural Resources (primary member); Submerged and Cultural Resources (alternate); Tourism—Upper Keys (primary member); and Tourism—Upper Keys (alternate).

Gray's Reef National Marine Sanctuary Advisory Council: Charter/Commercial Fishing (primary member); Conservation (primary member); K-12 Education (primary member); Non-living Resources Research (primary member); and Sport fishing (primary member).

Monitor National Marine Sanctuary Advisory Council: Commercial/Recreational Fishing (primary member).

Monterey Bay National Marine Sanctuary Advisory Council: At-Large (alternate).

Stellwagen Bank National Marine Sanctuary Advisory Council: Business/Industry (primary member); Mobile Gear Commercial Fishing (alternate); Recreational Fishing (alternate); Research (alternate); Whale Watch (alternate); Youth (alternate).

Authority: 16 U.S.C. Sections 1431, et seq.

(Federal Domestic Assistance Catalog Number 11.429 Marine Sanctuary Program)

Dated: July 20, 2015.
John Armor,
Acting Director, Office of National Marine Sanctuaries, National Ocean Service, National Oceanic and Atmospheric Administration.

[FR Doc. 2015-19904 Filed 8-13-15; 8:45 am]

BILLING CODE 3510-NK-P